DEPARTMENT OF COMMERCE

National Oceanic and Atmospheric Administration

Agency Information Collection Activities; Submission to the Office of Management and Budget (OMB) for Review and Approval; Comment Request; Greater Atlantic Region Logbook Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 22, 2020 (85 FR 83519) during a 60-day comment period. This notice allows for an additional 30 days for public comments.

Agency: National Oceanic and Atmospheric Administration (NOAA), Commerce.

Title: Greater Atlantic Region Logbook Family of Forms.

OMB Control Number: 0648-0212.

Form Number(s): None.

Type of Request: Regular (Revision of an approved information collection).

Number of Respondents: 2,299.

Average Hours per Response: 5 minutes, Vessel Trip Reports; 12.5 minutes, Shellfish Log; 3 minutes for Spawning Blocks, Monkfish DAS, EFP, Herring, RSA, and Tilefish.

Total Annual Burden Hours: 10,487.

Needs and Uses: The information collected is used by several offices of the NOAA Fisheries Service, the U.S. Coast Guard, the Councils, and state fishery enforcement agencies under contract to the NOAA Fisheries Service in order to develop, implement, and monitor fishery management strategies.

These data serve as inputs for a variety of uses, including biological analyses and stock assessments, regulatory impact analyses, quota allocation selections and monitoring, economic profitability profiles, trade and import tariff decisions, allocation of grant funds among states, and analysis of ecological interactions among species. NMFS would be unable to fulfill the majority of its scientific research and fishery management missions without these data.

This request is for revision of a current information collection. Fishing vessels participating in select fisheries within the Greater Atlantic Region are currently able to submit certain required reports via an Interactive Voice Response (IVR) system. As of Spring 2021, the IVR system will no longer be available and the reports will need to be submitted using our web based system, FishOnline.

Affected Public: Individuals or households; Business or other for-profit organizations.

Frequency: On occasion, weekly, monthly.

Respondent's Obligation: Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0212.

Sheleen Dumas,
Department PRA Clearance Officer, Office of the Chief Information Officer, Commerce Department.

[FR Doc. 2021-04654 Filed 3-5-21; 8:45 am]

BILLING CODE 3510-22-P